NATIONAL AERONAUTICS AND SPACE ADMINISTRATION

[Notice 00-091]

NASA Advisory Council (NAC), Aerospace Technology Advisory Committee (ASTAC); Flight Research Subcommittee Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee, Flight Research Subcommittee meeting.

DATES: Monday, August 21, 2000, 2:00 p.m. to 5:00 p.m., Tuesday, August 22, 2000, 8:00 a.m. to 5:00 p.m., and Wednesday, August 23, 2000, 8:00 a.m. to 5:00 p.m.

ADDRESSES: National Aeronautics and Space Administration, Dryden Flight Research Center, Building 4800, Executive Conference Room 2100, Edwards, CA 93535.

FOR FURTHER INFORMATION CONTACT: Mr. David McBride, National Aeronautics and Space Administration, Dryden Flight Research Center, Edwards, CA 93523, 661-276-2851.

SUPPLEMENTARY INFORMATION: The meeting will be open to the public up to the seating capacity of the room. The agenda topics for the meeting are as follows:

—Review of Flight Research Base R&T Program

—High Altitude, Long Endurance Aircraft

—Advanced Systems Concepts

—Revolutionary Concepts (REVCON)

—Atmospheric Flight of Space Systems

—Innovative Transport and Testbed Experiments

—Flight Research Productivity

It is imperative that the meeting be held on these dates to accommodate the scheduling priorities of the key participants.

Dated: July 25, 2000.
Matthew M. Crouch,
Advisory Committee Management Officer, National Aeronautics and Space Administration.

[FR Doc. 00-19442 Filed 8-1-00; 8:45 am]

BILLING CODE 7510-01-U